DEPARTMENT OF TRANSPORTATION

Federal Motor Carrier Safety Administration

[Docket No. FMCSA-2014-0006]

Qualification of Drivers; Exemption Applications; Vision

AGENCY: Federal Motor Carrier Safety Administration (FMCSA), DOT.

ACTION: Notice of final disposition.

SUMMARY: FMCSA confirms its decision to exempt 34 individuals from the vision requirement in the Federal Motor Carrier Safety Regulations (FMCSRs). They are unable to meet the vision requirement in one eye for various reasons. The exemptions allow these individuals to operate commercial motor vehicles (CMVs) in interstate commerce without meeting the prescribed vision requirement in one eye.

DATES: The new exemptions are effective July 22, 2014. All exemptions expire two years from the effective date.

FOR FURTHER INFORMATION CONTACT: Elaine M. Papp, Chief, Medical Programs Division, 202-366-4001, U.S. Department of Transportation, FMCSA, 1200 New Jersey Avenue SE., Room W64-224, Washington, DC 20590-0001. Office hours are from 8:30 a.m. to 5 p.m. Monday through Friday, except Federal holidays.

SUPPLEMENTARY INFORMATION FOR NEW EXEMPTIONS:

Electronic Access

You may see all the comments related to new exemptions discussed in this docket online through the Federal Document Management System (FDMS) at: http://www.regulations.gov.

Docket: For access to the dockets to read background documents or comments, go to http://www.regulations.gov and/or Room W12-140 on the ground level of the West Building, 1200 New Jersey Avenue SE., Washington, DC, between 9 a.m. and 5 p.m., Monday through Friday, except Federal holidays.

Privacy Act: Anyone may search the electronic form of all comments received into any of DOT's dockets by the name of the individual submitting the comment (or of the person signing the comment, if submitted on behalf of an association, business, labor union, or other entity). You may review DOT's Privacy Act Statement for the Federal Docket Management System (FDMS) published in the Federal Register on January 17, 2008 (73 FR 3316).

Background

FMCSA has published notices of receipt of Federal vision exemption applications and its intent to grant the exemptions. The Agency also requested comments from the public. The comment period closed 30 days after the publication date, and the exemptions were issued 1 day after the comment period closed.

FMCSA evaluated the eligibility of the drivers and determined that granting the exemptions to these individuals would achieve a level of safety equivalent to or greater than the level that would be achieved by complying with the current regulation 49 CFR 391.41(b)(10).

The determining criteria for and the conditions and requirements of the exemptions, to which all exempted drivers are subject, were discussed in detail when the docket was originally published (79 FR 35212). As always, any adverse comments that come in after the exemption is granted will be evaluated, and if they indicate that the driver is not achieving a level of safety equivalent to, or greater than, the level of safety that would be obtained by complying with the regulation, the exemption will be revoked. When granted, the exemptions will enable these individuals with vision deficiencies in one eye to operate in interstate commerce.

Exemptions Granted

The following 34 individuals are included in Docket No. FMCSA-2014-0006 (79 FR 35212), originally published on June 19, 2014:

Abdullahi M. Abukar (KY)

Gregory K. Banister (SC)

Amanuel W. Behon (WA)

Oscar N. Bolton (OH)

Kenneth W. Bos (MN)

Jerry W. Brinson (GA)

Michael C. Brown (IN)

Larry O. Burr (WI)

Brian L. Elliot (MO)

Juneau A. Faulkner (GA)

Gregory E. Gage (IA)

Robert Hall III (NC)

Bradley C. Hansell (OR)

Andrew P. Hawkins (SC)

Daniel Hollins (KY)

Clarence H. Jacobsma (IN)

Samuel L. Klaphake (MN)

Timothy L. Klose (PA)

Phillip E. Mason (MO)

David P. Monti (NJ)

Timothy L. Morton (NC)

Larry G. Nikkel (WA)

Kenneth A. Orrino (WA)

Ruel W. Reed (NC)

Jose L. Sanchez (IL)

Nicholas J. Schiltgen (MN)

Warren J. Shatzer (PA)

Loren A. Smith (SD)

Harlan L. Sugars (IA)

Seth D. Sweeten (ID)

George R. Tieskoetter (IA)

Ronald L. Weiss (MN)

John T. White, Jr. (NC)

Henry P. Wurtz (SD),

The public comment period for this docket closed on July 21, 2014, and the exemptions were issued and effective on July 22, 2014. The exemptions will expire two years from the effective date on July 22, 2016.

FMCSA received no comments in this proceeding.

Issued on: August 4, 2014.
Larry W. Minor,
Associate Administrator for Policy.

[FR Doc. 2014-19077 Filed 8-11-14; 8:45 am]

BILLING CODE 4910-EX-P